DEPARTMENT OF COMMERCE

Foreign-Trade Zones Board

[Order No. 1079]

Grant of Authority for Subzone Status; Tetra Pak Parts Americas, Inc. (Parts for Liquid Food Processing and Packaging Equipment) Indianapolis, IN

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Indianapolis Airport Authority, grantee of Foreign-Trade Zone 72, has made application to the Board for authority to establish special-purpose subzone status at the liquid food processing and packaging equipment parts warehousing/distribution (non-manufacturing) facility of Tetra Pak Parts Americas, Inc., located in Indianapolis, Indiana (FTZ Docket 1-99, filed 1/6/99);

Whereas, notice inviting public comment has been given in the Federal Register (64 FR 2170, 1/13/99); and,

Whereas, the Board adopts the findings and recommendations of the examiner's report, and finds that the requirements of the FTZ Act and Board's regulations are satisfied, and that approval of the application is in the public interest;

Now, Therefore, the Board hereby grants authority for subzone status at the liquid food processing and packaging equipment parts warehousing/distribution facility of Tetra Pak Parts Americas, Inc., located in Indianapolis, Indiana (Subzone 72O), at the location described in the application, and subject to the FTZ Act and the Board's regulations, including § 400.28. The scope of authority does not include activity conducted under FTZ procedures that would result in a change in tariff classification.

Signed at Washington, DC, this 10th day of February 2000.
Robert S. LaRussa,
Assistant Secretary of Commerce for Import Administration, Alternate Chairman, Foreign-Trade Zones Board.
Attest:
Dennis Puccinelli,
Acting Executive Secretary.

[FR Doc. 00-3990 Filed 2-17-00; 8:45 am]

BILLING CODE 3510-DS-P